NUCLEAR REGULATORY COMMISSION

[NRC-2012-0318; Docket Nos. 50-458; License No. NPF-47]

In the Matter of Entergy Gulf States Louisiana, LLC., and Entergy Operations, Inc., River Bend Station, Unit 1; Order Approving Direct and Indirect Transfers of License

I

Entergy Gulf States Louisiana, LLC. (EGS-LA) and Entergy Operations, Inc. (EOI) (the licensees) are co-holders of Facility Operating License No. NPF-47. The EGS-LA is the owner and EOI is authorized to possess, use, and operate River Bend Station, Unit 1 (RBS). The RBS is located in West Feliciana Parish, Louisiana.

II

By application dated September 27, 2012, as supplemented by letters dated January 29 and April 16, 2013, EOI requested on behalf of itself, EGS-LA, and their parent companies (together, the applicants), pursuant to § 50.80 of Title 10 of the Code of Federal Regulations (10 CFR), that the U.S. Nuclear Regulatory Commission (NRC) consent to certain license transfers to permit the direct transfer of RBS, and associated Independent Spent Fuel Storage Installation, to a new limited liability company also named Entergy Gulf States Louisiana, LLC. (New EGS-LA). In addition, the applicants requested the NRC's consent to approve associated indirect license transfers to the extent such would be affected by the formation of a new intermediary holding company. Entergy Corporation (Entergy) will remain as the ultimate parent company, but a new intermediate company, Entergy Utilities Holdings, LLC, a Delaware limited liability company, will be created, which will be the direct parent company of New EGS-LA and EOI. Ultimately, New EGS-LA will acquire ownership of the facility and EOI will remain responsible for the operation and maintenance of RBS. The license transfers are necessary to support a proposed separation of the Entergy transmission system in Arkansas, Louisiana, Mississippi, Missouri, and Texas. Currently, the utility operating company subsidiaries of Entergy (e.g., EGS-LA) own the respective transmission assets. Following the proposed transactions, each of the Entergy subsidiaries will become a new limited liability company with the same assets except that the transmission assets will be owned by ITC Holdings Corp. and operated by Midwest Independent Transmission System Operator, Inc.

No physical changes to the facilities or operational changes are being proposed in the application. The interconnections that provide offsite power to RBS do not change as a result of the proposed direct and indirect license transfers.

Approval of the direct and indirect transfers of the facility operating license was requested by EOI, acting on behalf of EGS-LA, as well as their parent companies and itself. A notice entitled, “Consideration of Approval of Application Regarding Proposed Creation of a Holding Company and Transfer of Facility Operating License and Opportunity for a Hearing,” was published in the Federal Register on January 3, 2013 (78 FR 320). No comments or hearing requests were received.

Under 10 CFR 50.80, no license, or any right thereunder, shall be transferred, directly or indirectly, through transfer of control of the license, unless the NRC shall give its consent in writing. Upon review of the information in the licensees' application, and other information before the Commission, the NRC staff has determined that the proposed indirect license transfer of control of the subject license held by the licensees to the extent such will result from the proposed formation of the intermediary holding company in conjunction with the planned direct transfer of EGS-LA to New EGS-LA to the extent affected in order to support transfer of the Entergy transmission assets as described in the application, is otherwise consistent with the applicable provisions of law, regulations, and orders issued by the NRC, pursuant thereto, subject to the conditions set forth below. The findings set forth above are supported by a safety evaluation dated the same day as this Order.

III

Accordingly, pursuant to Sections 161b, 161i, 161o, and 184 of the Atomic Energy Act of 1954, as amended, 42 U.S.C. 2201(b), 2201(i), 2201(o), and 2234; and 10 CFR 50.80, It is hereby ordered that the application regarding the indirect and direct license transfers related to the proposed corporate restructuring in connection with the separation of the Entergy transmission system is approved, subject to the following conditions:

1. Before completion of the proposed transaction, EOI shall provide the Director of the Office of Nuclear Reactor Regulation satisfactory documentary evidence that New EGS-LA has obtained the appropriate amount of insurance required of the licensees under 10 CFR part 140 of the Commission's regulations.

It is further ordered that after receipt of all required regulatory approvals of the proposed direct transfer action, EOI shall inform the Director of the Office of Nuclear Reactor Regulation in writing of such receipt, and of the date of closing, no later than 1 business day before the closing of the direct transfer. Should the proposed direct transfer not be completed within 1 year of this Order's date of issuance, this Order shall become null and void, provided, however, upon written application and good cause shown, such date may be extended by Order.

This Order is effective upon issuance.

For further details with respect to this Order, see the initial application dated September 27, 2012 (Agencywide Documents Access and Management System (ADAMS) Accession No. ML12275A013), as supplemented by letters dated January 29 and April 16, 2013 (ADAMS Accession Nos. ML13030A204 and ML13107A010, respectively), and the safety evaluation dated the same date as this Order (ADAMS Accession No. ML13077A237), which are available for public inspection at the Commission's Public Document Room (PDR), located at One White Flint North, Public File Area 01 F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR reference staff by telephone at 1-800-397-4209, or 301-415-4737, or by email to PDR.Resource@nrc.gov.

Dated at Rockville, Maryland, this 3rd day of May 2013.
For the Nuclear Regulatory Commission.
Eric J. Leeds,
Director, Office of Nuclear Reactor Regulation.

[FR Doc. 2013-11262 Filed 5-10-13; 8:45 am]

BILLING CODE 7590-01-P